DEPARTMENT OF TRANSPORTATION

Federal Aviation Administration

14 CFR Part 39

[Docket No. 2001-NM-21-AD; Amendment 39-12453; AD 2001-20-05]

RIN 2120-AA64

Airworthiness Directives; Fokker Model F.28 Mark 0100 Series Airplanes

AGENCY: Federal Aviation Administration, DOT.

ACTION: Final rule.

SUMMARY: This amendment supersedes an existing airworthiness directive (AD), applicable to all Fokker Model F.28 Mark 0100 series airplanes, that currently requires replacement of the anti-skid control boxes with improved units. This amendment requires modification or replacement of the anti-skid control boxes with new, improved units, which render the skid control boxes even less susceptible to electromagnetic interference during power-up and power-down transients. This action is prompted by continuing mandatory airworthiness information from a foreign airworthiness authority. The actions specified by this AD are necessary to prevent electromagnetic interference with the anti-skid control system, which could result in reduced brake pressure during low-speed taxiing, and consequent reduced controllability and performance of the airplane. This action is intended to address the identified unsafe condition.

DATES: Effective November 14, 2001.

The incorporation by reference of certain publications listed in the regulations is approved by the Director of the Federal Register as of November 14, 2001.

ADDRESSES: The service information referenced in this AD may be obtained from Fokker Services B.V., P.O. Box 231, 2150 AE Nieuw-Vennep, the Netherlands. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tom Rodriquez, Aerospace Engineer, ANM-116, FAA, Transport Directorate, 1601 Lind Avenue, SW., Renton, Washington 98055-4056; telephone (425) 227-1137; fax (425) 227-1149.

SUPPLEMENTARY INFORMATION: A proposal to amend part 39 of the Federal Aviation Regulations (14 CFR part 39) by superseding AD 2000-21-12, amendment 39-11944 (65 FR 63795, October 25, 2000), which is applicable to all Fokker Model F.28 Mark 0100 series airplanes, was published in the Federal Register on August 3, 2001 (66 FR 40646). The action proposed to require modification or replacement of the anti-skid control boxes with new, improved units, which render the skid control boxes even less susceptible to electromagnetic interference during power-up and power-down transients.

Comments

Interested persons have been afforded an opportunity to participate in the making of this amendment. No comments were submitted in response to the proposal or the FAA's determination of the cost to the public.

Conclusion

The FAA has determined that air safety and the public interest require the adoption of the rule as proposed.

Cost Impact

There are approximately 129 Model F.28 Mark 0100 series airplanes of U.S. registry that will be affected by this AD.

The modification of an existing anti-skid control box which is one means of compliance with this AD will take approximately 1 work hour per airplane to accomplish, at an average labor rate of $60 per work hour. Required parts will cost approximately $5,628 per airplane. Based on these figures, the cost impact of this action, if accomplished, would be $5,688 per airplane.

In lieu of the modification of the existing anti-skid control box, this AD provides for replacement of an existing anti-skid control box with a new, improved anti-skid control box. No information is available on the cost of such replacement.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11944 (65 FR 63795, October 25, 2000), and by adding a new airworthiness directive (AD), amendment 39-12453, to read as follows:

2001-20-05 Fokker Services B.V.: Amendment 39-12453. Docket 2001-NM-21-AD. Supersedes AD 2000-21-12, Amendment 39-11944.

Applicability: All Model F.28 Mark 0100 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c)(1) of this AD. The request should include an assessment of the effect of the modification, alteration, or repair on the unsafe condition addressed by this AD; and, if the unsafe condition has not been eliminated, the request should include specific proposed actions to address it.

Compliance: Required as indicated, unless accomplished previously.

To prevent electromagnetic interference with the anti-skid control system, which could result in reduced brake pressure during low-speed taxiing, and consequent reduced controllability and performance of the airplane, accomplish the following:

Modification or Replacement

(a) Within 24 months after the effective date of this AD: Accomplish the action specified in either paragraph (a)(1) or (a)(2) of this AD.

(1) Modify any anti-skid control box having part number (P/N) 6004272-3, -4, -5, or -6, in accordance with Fokker Service Bulletin SBF100-32-123, dated November 15, 2000; or

(2) Replace any anti-skid control box having part number (P/N) 6004272-3, -4, -5, or -6 with an improved unit having P/N 6004272-7, in accordance with Fokker Service Bulletin SBF100-32-123, dated November 15, 2000.

Note 2: Fokker Service Bulletin SBF100-32-123 refers to Aircraft Braking Systems Service Bulletin Fo100-32-83, dated October 30, 2000, as an additional source of service information.

Spares

(b) As of the effective date of this AD, no person shall install on any airplane an anti-skid control box having P/N 6004272-3, -4, -5, or -6, unless the anti-skid control box has been modified, in accordance with Fokker Service Bulletin SBF100-32-123, dated November 15, 2000.

Alternative Methods of Compliance

(c)(1) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

(2) Alternative methods of compliance, approved previously in accordance with AD 2000-21-12, amendment 39-11944, are approved as alternative methods of compliance with this AD.

Note 3: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Fokker Service Bulletin SBF100-32-123, dated November 15, 2000. This incorporation by reference was approved by the Director of the Federal Register in accordance with 5 U.S.C. 552(a) and 1 CFR part 51. Copies may be obtained from Fokker Services B.V., P.O. Box 231, 2150 AE Nieuw-Vennep, the Netherlands. Copies may be inspected at the FAA, Transport Airplane Directorate, 1601 Lind Avenue, SW., Renton, Washington; or at the Office of the Federal Register, 800 North Capitol Street, NW., suite 700, Washington, DC.

Note 4: The subject of this AD is addressed in Dutch airworthiness directive 1999-149, dated November 30, 2000.

Effective Date

(f) This amendment becomes effective on November 14, 2001.

Issued in Renton, Washington, on September 26, 2001.
Charles Huber,
Acting Manager, Transport Airplane Directorate, Aircraft Certification Service.

[FR Doc. 01-24778 Filed 10-9-01; 8:45 am]

BILLING CODE 4910-13-P